DEPARTMENT OF HEALTH AND HUMAN SERVICES

Administration for Children and Families

Proposed Information Collection Activity; Contact After Adoption or Guardianship: Child Welfare Agency and Family Interactions (New Collection)

AGENCY: Office of Planning, Research, and Evaluation, Administration for Children and Families, Health and Human Services (HHS).

ACTION: Request for public comment.

SUMMARY: The Administration for Children and Families (ACF), U.S. Department of Health and Human Services (HHS), seeks approval for a one-time study to examine child welfare agency family contact activities. The primary objective of this study is to describe how public child welfare agencies are in contact with or receive information about the well-being of children and youth who have exited the foster care system through adoption or guardianship, particularly the experiences of these children with instability. A secondary objective is to understand what types of information child welfare agencies systematically track about these children.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: The proposed study would conduct web surveys with state child welfare agency adoption program managers. The study will also include stakeholder telephone interviews with selected child welfare agency representatives. The web surveys and stakeholder interviews are designed to collect information about the types of routine contact between agencies and families after adoption or guardianship, as well as agency procedures to track child instability experiences after adoption or guardianship.

Respondents: Child welfare agency staff.

Annual Burden Estimates
Instrument | Total/annual number of respondents | Number of responses per respondent | Average burden hours per response | Annual burden hours
Agency Web Survey—Adoption | 50 | 1 | .33 | 16.5
Agency Web Survey—Guardianship | 20 | 1 | .25 | 5.0
Stakeholder Interview Discussion Guide: Adoption | 30 | 1 | 1.17 | 35.1
Stakeholder Interview Discussion Guide: Guardianship | 12 | 1 | 1.17 | 14.0

Estimated Total Annual Burden Hours: 70.6.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Child Abuse Prevention and Treatment and Adoption Reform Act of 1978.

John M. Sweet Jr.,
ACF/OPRE Certifying Officer.

[FR Doc. 2020-17270 Filed 8-6-20; 8:45 am]

BILLING CODE 4184-25-P